FEDERAL DEPOSIT INSURANCE CORPORATION

Sunshine Act Meeting

TIME AND DATE: 10:47 a.m. on Tuesday, December 14, 2021.

PLACE: The meeting was held via video conference on the internet.

STATUS: Closed.

MATTERS TO BE CONSIDERED: In calling the meeting, the Board determined, on motion of Director Martin J. Gruenberg, seconded by Director Michael J. Hsu (Acting Comptroller of the Currency), and concurred in by Director Rohit Chopra (Director, Consumer Financial Protection Bureau), and Chairman Jelena McWilliams, that the public interest did not require consideration of the matters in a meeting open to public observation; and that the matters could be considered in a closed meeting by authority of subsections (c)(2), (c)(4), (c)(6), (c)(8), (c)(9)(A)(ii), and (c)(9)(B) of the “Government in the Sunshine Act” (5 U.S.C. 552b(c)(2), (c)(4), (c)(6), (c)(8), (c)(9)(A)(ii), and (c)(9)(B).

CONTACT PERSON FOR MORE INFORMATION: Requests for further information concerning the meeting may be directed to Debra Decker, Deputy Executive Secretary of the Corporation, at 202-898-8748.

Dated this the 14th day of December, 2021.
Federal Deposit Insurance Corporation.
James P. Sheesley,
Assistant Executive Secretary.

[FR Doc. 2021-27395 Filed 12-15-21; 8:45 am]

BILLING CODE 6714-01-P